SECURITIES AND EXCHANGE COMMISSION

[File No. 500-1]

In the Matter of Datascension, Inc., Here Enterprises, Inc., Metaswarm, Inc., and Statmon Technologies Corp.; Order of Suspension of Trading

August 6, 2014.

It appears to the Securities and Exchange Commission that there is a lack of current and accurate information concerning the securities of Datascension, Inc. because it has not filed any periodic reports since the period ended June 30, 2010.

It appears to the Securities and Exchange Commission that there is a lack of current and accurate information concerning the securities of Here Enterprises, Inc. because it has not filed any periodic reports since the period ended February 29, 2012.

It appears to the Securities and Exchange Commission that there is a lack of current and accurate information concerning the securities of Metaswarm, Inc. because it has not filed any periodic reports since it filed a Form 10-12G to register its common stock, which included financial statements through the period ended June 30, 2007.

It appears to the Securities and Exchange Commission that there is a lack of current and accurate information concerning the securities of Statmon Technologies Corp. because it has not filed any periodic reports since the period ended December 31, 2010.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on August 6, 2014, through 11:59 p.m. EDT on August 19, 2014.

By the Commission.
Kevin M. O'Neill,
Deputy Secretary.

[FR Doc. 2014-18916 Filed 8-6-14; 11:15 am]

BILLING CODE 8011-01-P